DEPARTMENT OF HEALTH AND HUMAN SERVICES

Centers for Medicare & Medicaid Services

42 CFR Parts 431 and 457

[CMS-6026-CN]

RIN 0938-AM86

Medicaid Program and State Children's Health Insurance Program (SCHIP); Payment Error Rate Measurement; Correction

AGENCY: Centers for Medicare & Medicaid Services (CMS), HHS.

ACTION: Proposed rule; correction.

SUMMARY: This document corrects an incorrect date for the close of the public comment period that appeared in the proposed rule that was published in the Federal Register on August 27, 2004 entitled “Medicaid Program and State Children's Health Insurance Program (SCHIP) Payment Error Rate Measurement.”

DATES: The comment deadline for the proposed rule published on August 27, 2004 at 69 FR 52620 is corrected to October 21, 2004.

FOR FURTHER INFORMATION CONTACT: Christine Saxonis (410) 786-3722. Janet E. Reichert, (410) 786-4580.

SUPPLEMENTARY INFORMATION:

I. Background

On August 27, 2004, we published a proposed rule in the Federal Register titled “Medicaid Program and State Children's Health Insurance Program (SCHIP) Payment Error Rate Measurement” (69 FR 52620). That proposed rule would require State agencies to estimate improper payments in the Medicaid program and SCHIP program. The Improper Payments Information Act of 2002 requires Federal agencies to annually review and identify those programs and activities that may be susceptible to significant erroneous payments, estimate the amount of improper payments and report those estimates to the Congress and, if necessary, submit a report on actions the agency is taking to reduce erroneous payments.

The intended effect and expected results of that proposed rule would be for States to produce improper payment estimates for their Medicaid and SCHIP programs and to identify existing and emerging vulnerabilities that can be addressed by the States through actions taken to reduce the rate of improper payments and produce a corresponding increase in program savings at both the State and Federal levels.

In FR Doc. 04-19603 of August 27, 2004 (69 FR 52620), we erroneously incorporated an incorrect date for the close of the public comment period. The correct date for the close of the comment period should be October 27, 2004. We had intended to provide a 60-day public comment period since the regulation is complex. A 30-day comment period may not provide enough time for States to analyze the requirements and determine the impact on staffing, costs, technology, statistical support, and any other needs; develop comments, obtain internal clearances, and submit the comments for our consideration.

In addition, States have expressed an interest in meeting among themselves and working with their Technical Advisory Groups to develop comments. The 30-day comment period may not accommodate this approach.

Furthermore, the regulation is not detailed in terms of implementation. The Office of Management and Budget asked that we specifically request comments on this issue. A 30-day comment period may not give States time to analyze issues and problems concerning implementation, develop comments, obtain internal clearances, and submit them for our consideration.

The error is corrected in the “Correction of Errors” section below.

II. Correction of Errors

In FR Doc. 04-19603 of August 27, 2004 (69 FR 52620), make the following correction:

On page 52621, in the first column; in the DATES section, correct the date “September 27, 2004” to read “October 27, 2004.”

(Catalog of Federal Domestic Assistance Program No. 93.767, State Children's Health Program)
Dated: September 15, 2004.
Ann C. Agnew,
Executive Secretary to the Department.

[FR Doc. 04-21198 Filed 9-17-04; 8:45 am]

BILLING CODE 4120-01-P